DEPARTMENT OF HOMELAND SECURITY

Coast Guard

33 CFR Part 117

[Docket No. USCG-2014-1057]

Drawbridge Operation Regulations; Norwalk River, Norwalk, CT

AGENCY: Coast Guard, DHS.

ACTION: Notice of temporary deviation from regulations; request for comments.

SUMMARY: The Coast Guard has issued a temporary deviation from the operating schedule that governs the Metro-North WALK Bridge across the Norwalk River, mile 0.1, at Norwalk, Connecticut. This deviation will test a change to the drawbridge operation schedule to determine whether a permanent change to the schedule is needed. This deviation will allow the Metro-North WALK Bridge to operate under an alternate schedule to facilitate the high volume of rail service across the Metro-North WALK Bridge at peak hours, while balancing both the needs of rail and marine traffic.

DATES: This deviation is effective without actual notice from January 9, 2015 through 11:59 p.m. on June 28, 2015. For the purposes of enforcement, actual notice will be used from 12:01 a.m. on January 1, 2015, until January 9, 2015.

Comments and related material must be received by the Coast Guard on or before May 31, 2015. Requests for public meetings must be received by the Coast Guard on or before May 1, 2015.

ADDRESSES: You may submit comments identified by docket number USCG-2014-1057 using any one of the following methods:

(1) Federal eRulemaking Portal: ­http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

See the “Public Participation and Request for Comments” portion of the SUPPLEMENTARY INFORMATION section below for instructions on submitting comments. To avoid duplication, please use only one of these three methods.

FOR FURTHER INFORMATION CONTACT: If you have questions on this test deviation, call or email Ms. Judy Leung-Yee, Project Officer, First Coast Guard District, telephone (212) 514-4330, judy.k.leung-yee@uscg.mil. If you have questions on viewing the docket, call Cheryl Collins, Program Manager, Docket Operations, telephone (202) 366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2014-1057), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, type the docket number [USCG-2014-1057] in the “SEARCH” box and click “SEARCH.” Click on “Submit a Comment” on the line associated with this rulemaking. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2014-1057) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one on or before May 1, 2015, using one of the methods specified under ADDRESSES. Please explain why one would be beneficial. If we determine that one would aid this rulemaking, we will hold one at a time and place announced by a later notice in the Federal Register.

B. Basis and Purpose

The Metro-North WALK Bridge, mile 0.1, across the Norwalk River at Norwalk, Connecticut, has a vertical clearance in the closed position of 16 feet at mean high water and 23 feet at mean low water. The drawbridge operation regulations are listed at 33 CFR 117.217(b).

The existing Drawbridge Operation Regulations require the draw of the Metro-North Walk Bridge to open on signal as follows: From 5 a.m. to 9 p.m., except that, from Monday through Friday excluding holidays, the draw need not be opened from 7 a.m. to 8:45 a.m. and 4 p.m. to 6 p.m., unless an emergency exists; only once in any 60-minute period from 5:45 a.m. to 7 a.m. and 6 p.m. to 7:45 p.m. From 9 p.m. to 5 a.m., if at least four hours notice is given. A delay of up to 20 minutes may be expected if a train is approaching so closely that it may not be safely stopped.

The owner of the bridge, Connecticut Department of Transportation, requested a change to the Drawbridge Operation Regulations because the volume of train traffic across the bridge during the peak commuting hours makes bridge openings impractical. As a result, bridge openings that occur during peak commuter train hours cause significant delays to commuter rail traffic.

The waterway users are seasonal recreational vessels and commercial vessels of various sizes.

The Coast Guard is publishing this temporary deviation to test the proposed regulation change to determine whether a permanent change to the schedule is necessary to better balance the needs of marine and rail traffic.

Under this temporary deviation, in effect from January 1, 2015 through June 28, 2015, the Metro-North WALK Bridge at mile 0.1, across the Norwalk River, at Norwalk, Connecticut shall operate as follows:

The draw shall open on signal between 4 a.m. and 9 p.m. after at least a two hour advance notice is given; except that, from 4:30 a.m. through 10 a.m. and from 2 p.m. through 9 p.m., Monday through Friday excluding holidays, the draw need not open for the passage of vessel traffic.

From 9 p.m. through 4 a.m. the draw shall open on signal after at least a four hour advance notice is given.

Requests for bridge openings may be made by calling the bridge via marine radio VHF FM Channel 13 or the telephone number posted at the bridge.

A delay of up to 20 minutes may be expected if a train is approaching so closely that it may not be safely stopped.

Vessels that can pass under the bridge in the closed position may do so at any time. There are no alternate routes. The bridge can open in the event of an emergency situation.

The Coast Guard contacted the waterway users regarding this proposed temporary deviation to test a proposed change to the Drawbridge Operation Regulations and no objections were received.

In accordance with 33 CFR 117.35(e), the drawbridge must return to its regular operating schedule immediately at the end of the effective period of this temporary deviation. This deviation from the operating regulations is authorized under 33 CFR 117.35.

Dated: December 24, 2014.
V.B. Gifford, Jr.,
Captain, U.S. Coast Guard, Acting Commander, First Coast Guard District.

[FR Doc. 2015-00195 Filed 1-8-15; 8:45 am]

BILLING CODE 9110-04-P